SMALL BUSINESS ADMINISTRATION

[Disaster Declaration #17299 and #17300; Colorado Disaster Number CO-00136]

Presidential Declaration Amendment of a Major Disaster for the State of Colorado

AGENCY: U.S. Small Business Administration.

ACTION: Amendment 1.

SUMMARY: This is an amendment of the Presidential declaration of a major disaster for the State of Colorado (FEMA-4634-DR), dated 12/31/2021.

Incident: Wildfires and Straight-line Winds.

Incident Period: 12/30/2021 through 01/07/2022.

DATES: Issued on 01/13/2022.

Physical Loan Application Deadline Date: 03/01/2022.

Economic Injury (EIDL) Loan Application Deadline Date: 09/30/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Colorado, dated 12/31/2021, is hereby amended to establish the incident period for this disaster as beginning 12/30/2021 through 01/07/2022.

All other information in the original declaration remains unchanged.

(Catalog of Federal Domestic Assistance Number 59008)

Barbara E. Carson,
Acting Associate Administrator for Disaster Assistance.

[FR Doc. 2022-01342 Filed 1-24-22; 8:45 am]

BILLING CODE 8026-03-P